FEDERAL COMMUNICATIONS COMMISSION

Deletion of Items From Sunshine Act Meeting

February 23, 2017.

The following consent agenda item has been deleted from the list of items scheduled for consideration at the Thursday, February 23, 2017, Open Meeting and previously listed in the Commission's Notice of February 16, 2017. The Consent Agenda has been adopted by the Commission.

* * * * *

Consent Agenda

The Commission will consider the following subjects listed below as a consent agenda and these items will not be presented individually:

1. Media Title: Delta Radio Network, LLC, Application for Minor Modification of Licensed Facilities of WNLA(AM), Indianola, MS.

Summary: The Commission will consider a Memorandum Opinion and Order concerning an Application for Review filed by Delta Radio Network regarding the dismissal of a modification application.

Federal Communications Commission.
Marlene H. Dortch,
Secretary.

[FR Doc. 2017-04261 Filed 3-1-17; 4:15 pm]

BILLING CODE 6712-01-P